DEPARTMENT OF THE INTERIOR

Bureau of Reclamation

[RR04310000, 16XR0680A1, RX002361010021000]

Notice of Availability for the Final Environmental Impact Statement for the Continued Implementation of the 2008 Operating Agreement for the Rio Grande Project, New Mexico and Texas

AGENCY: Bureau of Reclamation, Interior.

ACTION: Notice.

SUMMARY: In accordance with the National Environmental Policy Act of 1969, as amended, the Bureau of Reclamation (Reclamation) has prepared a Final Environmental Impact Statement (FEIS) to analyze the environmental impacts of continuing to implement the 2008 Rio Grande Project Operating Agreement (Operating Agreement) through 2050, and by this Notice is announcing its availability. The Operating Agreement is a written agreement describing how Reclamation allocates, releases from storage, and delivers Rio Grande Project water to the Elephant Butte Irrigation District (EBID) in New Mexico, the El Paso County Water Improvement District No. 1 (EPCWID) in Texas, and to Mexico. In addition, the FEIS evaluates the environmental effects of a proposal to renew a contract to store San Juan-Chama Project water in Elephant Butte Reservoir.

DATES: Reclamation will not issue a final decision on the proposed action for a minimum of 30 days after the date that the Environmental Protection Agency publishes its Notice of Availability of Weekly Receipt of Environmental Impact Statements in the Federal Register. After the 30-day public review period, Reclamation will complete a Record of Decision (ROD). The ROD will state the action that will be implemented and discuss all factors leading to that decision.

ADDRESSES: Copies of the FEIS are available for public inspection at the following locations:

• Bureau of Reclamation, Albuquerque Area Office, 555 Broadway NE., Suite 100, Albuquerque, New Mexico 87102.

• Bureau of Reclamation, El Paso Field Division, 10737 Gateway West, Suite 350, El Paso, Texas 79935.

• Bureau of Reclamation, Upper Colorado Regional Office, 125 South State Street, Room 8100, Salt Lake City, Utah 84138.

Libraries

• New Mexico State University—Branson Library, 1305 Frenger Street, Las Cruces, New Mexico 88003.

• University of Texas at El Paso, 500 West University Avenue, El Paso, Texas 79968.

Electronic copies of the FEIS are available at: http://www.usbr.gov/uc/envdocs/eis.html.

FOR FURTHER INFORMATION CONTACT: Ms. Jennifer Faler, Area Manager, Albuquerque Area Office, telephone: (505) 462-3600; address: 555 Broadway NE., Suite 100, Albuquerque, New Mexico 87102; email: jfaler@usbr.gov. Any persons wishing to be added to a mailing list of interested parties may write or call Ms. Faler at this address or telephone number.

Persons who use a telecommunications device for the deaf may call the Federal Information Relay Service (FIRS) at 1-800-877-8339 to contact the above individual during normal business hours. The FIRS is available 24 hours a day, 7 days a week, in order to leave a message or question with the above named individual. You will receive a reply during normal business hours.

SUPPLEMENTARY INFORMATION: Reclamation prepared the FEIS in cooperation with five agencies:

• United States Section of the International Boundary and Water Commission,

• Colorado Division of Water Resources,

• EBID,

• EPCWID, and

• Texas Rio Grande Compact Commissioner.

The purpose for the proposed Federal action is to meet contractual obligations of Reclamation to EBID and EPCWID, and to comply with applicable law governing water allocation, delivery, and accounting. These obligations are currently fulfilled under the Operating Agreement. The need for the proposed Federal action is to resolve the long and litigious history of the Rio Grande Project, and to enter into mutually agreeable operational criteria that comply with applicable law, court decrees, settlement agreements, and contracts. The purpose and need for similar action is to respond to a request to store San Juan-Chama Project water in Elephant Butte Reservoir.

The FEIS Analyzes Five Alternatives

The FEIS describes and analyzes five alternatives: The Preferred Alternative (Alternative 1) is continuation of the Operating Agreement and the San Juan-Chama storage contract through 2050. Alternative 2 would not store San Juan-Chama Project water in Elephant Butte Reservoir. Alternative 3 would not include the carryover accounting provision. Alternative 4 would not include the diversion ratio adjustment. Alternative 5 is the No Action Alternative and it would eliminate both the carryover accounting and diversion ratio adjustment from Rio Grande Project allocation and accounting procedures.

The FEIS analyzes the effect of these five alternatives on (1) water resources (total storage, Elephant Butte Reservoir elevations, allocation, releases, net diversion, farm surface water deliveries, farm groundwater deliveries, groundwater elevations, and water quality); (2) biological resources (vegetation communities including wetlands, wildlife, aquatic species, and special status species and critical habitat); (3) cultural resources (historic properties, Indian sacred sites, and resources of tribal concern); and (4) socioeconomic resources (Indian trust assets, recreation, hydropower, regional economic impacts and economic benefits, and environmental justice).

On January 15, 2014, a Notice of Intent was published in the Federal Register (79 FR 2691) inviting public scoping comments on the proposed action of continuing to implement the Operating Agreement through 2050. A Notice of Availability was published in the Federal Register on March 18, 2016 (81 FR 14886), and the public was invited to provide comments on the Draft EIS during an 83-day comment period ending on June 8, 2016.

Public Disclosure

Before including your address, phone number, email address, or other personal identifying information in your comment, please be advised that your entire comment—including your personal identifying information—may be made publicly available at any time. While you can ask us in your comment to withhold your personal identifying information from public review, we cannot guarantee that we will be able to do so.

Dated: September 7, 2016.
Brent Rhees,
Regional Director, Upper Colorado Region.

[FR Doc. 2016-23525 Filed 9-29-16; 8:45 am]

BILLING CODE 4332-90-P